DEPARTMENT OF TRANSPORTATION

Federal Aviation Administration

14 CFR Part 71

[Docket No. FAA-2019-0349; Airspace Docket No. 19-AGL-14]

RIN 2120-AA66

Amendment of Class E Airspace; Rockford, IL

AGENCY: Federal Aviation Administration (FAA), DOT.

ACTION: Final rule.

SUMMARY: This action modifies Class D airspace and Class E airspace areas extending upward from 700 feet or more above the surface of the earth at Chicago/Rockford International Airport (formerly Greater Rockford Airport) in Rockford, IL, based on the result of an airspace review caused by the decommissioning of the GILMY locator outer marker (LOM). The GILMY LOM and Greater Rockford ILS localizer are no longer needed in the description of the Class D and E-5 airspace. This amendment also updates the airport name to coincide with the FAA's aeronautical database. Airspace redesign is necessary for the safety and management of instrument flight rules (IFR) operations at this airport.

DATES: Effective 0901 UTC, July 16, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Rebecca Shelby, Federal Aviation Administration, Operations Support Group, Central Service Center, 10101 Hillwood Parkway, Fort Worth, TX 76177; telephone (817) 222-5857.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and E5 airspace at Chicago/Rockford International Airport, in support of standard instrument approach procedures for IFR operations at the airport.

History

The FAA published a notice of proposed rulemaking in the Federal Register (84 FR 22746; May 20, 2019) for Docket No. FAA-2019-0349 to amend Class D and E airspace extending upward from 700 feet above the surface at Chicago/Rockford International Airport, Rockford, IL. Interested parties were invited to participate in this rulemaking effort by submitting written comments on the proposal to the FAA. One comment was received. The commenter said, “Overall, this does seem like a solid proposed rule and one that would ensure the safety of many and the proper use of instruments over this proposed airspace. However, my only hesitation is for some of the small airplane owners who regularly use these airports. Will they still be able to use these airports as they have been if their aircrafts are not equipped with standard instrument approach procedures (SIAPs)? If not, I think there should be some sort of grandfather clause for the pilots and aircraft owners who have been using this airspace for years. I would appreciate hearing the FAAs thoughts on this.”

The small aircraft owners will still be able to use airport but with not all of the current conventional approach procedure (e.g. ILS, LOC or VOR). Chicago/Rockford International Airport will have two instrument landing systems approaches for runways 01 and 07. Additionally, any aircraft should be within 100 NM of a safe-landing airport with a conventional approach from almost any point in CONUS.

Class D and E airspace designations are published in paragraph 5000 and 6005 of FAA Order 7400.11D, dated August 8, 2019, and effective September 15, 2019, which is incorporated by reference in 14 CFR 71.1. The Class D and E airspace designations listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This action amends Title 14 Code of Federal Regulations (14 CFR) part 71 by modifying Class D airspace extending upward from the surface of the earth to and including 3,200 feet MSL within a 4.6-mile radius of the Chicago/Rockford International Airport by removing the extension to the south out to the GILMY LOM. Also, modifying Class E airspace extending upward from 700 feet above the surface within a 7.1-mile radius of the Chicago/Rockford International Airport and removing the extension to the south associated with the Greater Rockford ILS localizer. This action enhances safety and the management of IFR operations at the airport. In addition, the airport name is adjusted to coincide with the FAA's aeronautical database. The Greater Rockford ILS localizer and the GILMY LOM are no longer needed to describe the airspaces and have been removed.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D

* * * * *

AGL IL D Rockford, IL [Revised]

Chicago/Rockford International Airport, IL

(Lat. 42°11′43′ N, long. 89°05′50″ W)

That airspace extending upward from the surface of the earth to and including 3,200 feet MSL within a 4.6-mile radius of the Chicago/Rockford International Airport.

* * * * *

Paragraph 6005 Class E Airspace Areas Extending Upward From 700 Feet or More Above the Surface of the Earth.

* * * * *

AGL IL E5 Rockford, IL [Amended]

Chicago/Rockford International Airport, IL

(Lat. 42°11′43″ N, long. 89°05′50″ W)

That airspace extending upward from 700 feet above the surface within a 7.1-mile radius of the Chicago/Rockford International Airport.

Issued in Fort Worth, Texas, on May 5, 2020.
Steven T. Phillips,
Acting Manager, Operations Support Group, ATO Central Service Center.

[FR Doc. 2020-09893 Filed 5-11-20; 8:45 am]

BILLING CODE 4910-13-P